DEPARTMENT OF ENERGY

Federal Energy Regulatory Commission

[Docket No. RP00-589-000]

ANR Pipeline Company; Notice of Proposed Changes in FERC Gas Tariff

October 3, 2000.

Take notice that on September 29, 2000, ANR Pipeline Company (ANR) tendered for filing, as part of its FERC Gas Tariff, Second Revised Volume No. 1, the following sheets to be effective October 1, 2000.

Primary Proposal

Forty-fourth Revised Sheet No. 8

Forty-fourth Revised Sheet No. 9

Forty-third Revised Sheet No. 13

Fifty-third Revised Sheet No. 18

Alternate Proposal

Alternate Forty-fourth Revised Sheet No. 8

Alternate Forty-fourth Revised Sheet No. 9

Alternate Forty-third Revised Sheet No. 13

Alternate Fifty-third Revised Sheet No. 18

ANR states that this filing is being submitted by ANR for the purpose of recovery certain gas supply realignment (GSR) costs incurred as a result of restructuring under Order No. 636. This filing includes both a primary and an alternative set of tariff sheets. In its primary case, which is ANR's preferred case, ANR seeks to implement a GSR surcharge of $0.007, applicable to each Dth of MDQ, over a three (3) year period. In the alternative case, ANR proposes to collect a GSR surcharge of $0.018 per Dth over a 1 year period, resulting in lower interest costs to its customers, and a lower overall recovery amount.

ANR states that copies of the filing have been mailed to each of ANR's Second Revised Volume No. 1 customers, and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-25858 Filed 10-6-00; 8:45 am]

BILLING CODE 6717-01-M